NEIGHBORHOOD REINVESTMENT CORPORATION

Neighborworks® America; Thirtieth Annual Board of Directors Meeting; Sunshine Act

Time and Date: 2 p.m., Wednesday, June 4, 2008.

Place: 1325 G Street NW., Suite 800, Boardroom, Washington, DC 20005.

Status: Open.

Contact Person for More Information: Erica Hall, Assistant Corporate Secretary, (202) 220-2376; ehall@nw.org.

Agenda: I. Call To Order.

II. Approval of the Minutes.

III. Summary of the Audit Committee Actions.

IV. Summary Report of the Corporate Administration Committee.

V. Summary of the Finance, Budget and Program Committee Actions.

VI. Edward M. Gramlich Fellowship in Community Development.

VII. NHSA Interim Assessment Update (Executive Session).

VIII. Financial Report.

IX. Corporate Scorecard.

X. Chief Executive Officer's Quarterly Management Report.

XI. Adjournment.

Erica Hall,
Assistant Corporate Secretary.

[FR Doc. E8-12358 Filed 6-3-08; 8:45 am]

BILLING CODE 7570-02-M